DEPARTMENT OF ENERGY

Federal Energy Regulatory Commission

Combined Notice of Filings

Take notice that the Commission has received the following Natural Gas Pipeline Rate and Refund Report filings:

Filing Instituting Proceedings

Docket Numbers: RP17-290-000.

Applicants: Gulf South Pipeline Company, LP.

Description: Gulf South Pipeline Company, LP submits tariff filing per 154.204: Cap Rel Neg Rate Agmt (EOG 34687 to NJR 47507) to be effective 1/1/2017.

Filed Date: 12/28/16.

Accession Number: 20161228-5003.

Comments Due: 5 p.m. ET 1/9/17.

Docket Numbers: RP17-291-000.

Applicants: Gulf South Pipeline Company, LP.

Description: Gulf South Pipeline Company, LP submits tariff filing per 154.204: Negotiated Rate Agreement (Shell 46810) to be effective 1/1/2017.

Filed Date: 12/28/16.

Accession Number: 20161228-5004.

Comments Due: 5 p.m. ET 1/9/17.

Docket Numbers: RP17-292-000.

Applicants: Florida Gas Transmission Company, LLC.

Description: Florida Gas Transmission Company, LLC submits tariff filing per 154.203: Annual Accounting Report filing on 12/28/16 to be effective N/A.

Filed Date: 12/28/16.

Accession Number: 20161228-5005.

Comments Due: 5 p.m. ET 1/9/17.

Docket Numbers: RP17-293-000.

Applicants: Iroquois Gas Transmission System, L.P.

Description: Iroquois Gas Transmission System, L.P. submits tariff filing per 154.204: 12/28/16 Negotiated Rates—Mieco, Inc. (HUB) 7080-89 to be effective 1/1/2017.

Filed Date: 12/28/16.

Accession Number: 20161228-5030.

Comments Due: 5 p.m. ET 1/9/17.

Docket Numbers: RP17-294-000.

Applicants: Iroquois Gas Transmission System, L.P.

Description: Iroquois Gas Transmission System, L.P. submits tariff filing per 154.204: 12/28/16 Negotiated Rates—Twin Eagle Resource Management, LLC (RTS) 7300-01 to be effective 1/1/2017.

Filed Date: 12/28/16.

Accession Number: 20161228-5046.

Comments Due: 5 p.m. ET 1/9/17.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP17-49-001.

Applicants: Destin Pipeline Company, L.L.C.

Description: Destin Pipeline Company, L.L.C. submits tariff filing per 154.203: Compliance Filing in Response to Tariff Changes to Audit to be effective 12/1/2016.

Filed Date: 12/27/16.

Accession Number: 20161227-5036.

Comments Due: 5 p.m. ET 1/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2016.
Nathaniel J. Davis, Sr.,
Deputy Secretary

[FR Doc. 2017-01921 Filed 1-27-17; 8:45 am]

BILLING CODE 6717-01-P